DEPARTMENT OF TRANSPORTATION

Federal Aviation Administration

14 CFR Part 34

[Docket No.: FAA-2009-0112; Amendment No. 34-4]

RIN 2120-AJ41

Emission Standards for Turbine Engine Powered Airplanes; Correction

AGENCY: Federal Aviation Administration (FAA), DOT.

ACTION: Final rule; correction.

SUMMARY: The Federal Aviation Administration (FAA) is amending an error in its emission standards for turbine engine powered airplanes. The paragraph that describes the sampling and analytical procedures for measuring smoke exhaust emissions contains an erroneous cross reference which was included in the final rule. This document corrects that error so that the reader is able to locate the correct information.

DATES: This correction is effective June 29, 2009.

FOR FURTHER INFORMATION CONTACT: For technical questions concerning this final rule, contact Aimee Fisher, Emissions Division (AEE-300), Office of Environment and Energy, Federal Aviation Administration, 800 Independence Avenue, SW., Washington, DC 20591; telephone (202) 267-7705; e-mail: aimee.fisher@faa.gov. For legal questions concerning this rule, contact Karen Petronis (AGC-200), Office of the Chief Counsel, Regulations Division, Federal Aviation Administration, 800 Independence Avenue, SW., Washington, DC 20591; telephone (202) 267-3073; e-mail: karen.petronis@faa.gov.

SUPPLEMENTARY INFORMATION:

Background

The FAA published a final rule entitled “Emission Standards for Turbine Engine Powered Airplanes” in the Federal Register on Tuesday, April 28, 2009 (74 FR 19128). The final rule amended emissions standards for turbine engine powered airplanes to incorporate the standards adopted by the United States Environmental Protection Agency (EPA). This rule also amended certain test procedures for gaseous exhaust emissions, which are based on the standards of the International Civil Aviation Organization (ICAO) for gaseous emissions of oxides of nitrogen (NOX). This final rule, as published, contained an erroneous cross reference to an ICAO Annex in § 34.82. The correct reference is ICAO Annex 16.

Correction

In FR Doc. E9-9433 appearing on page 19125 of the Federal Register of Tuesday, April 28, 2009, make the following corrections:

§ 34.82 [Amended]

1. On page 19128, second column, in the first sentence of § 34.82, remove the phrase “Appendix 2 to ICAO Annex 2 to ICAO Annex 16” and add the phrase “Appendix 2 to ICAO Annex 16” in its place.

Issued in Washington, DC, on May 29, 2009.
Pamela Hamilton-Powell,
Director, Office of Rulemaking.

[FR Doc. E9-12977 Filed 6-3-09; 8:45 am]

BILLING CODE 4910-13-P